DEPARTMENT OF ENERGY

Plan for Conduct of 2012 Electric Transmission Congestion Study

AGENCY: Office of Electricity Delivery and Energy Reliability, Department of Energy (DOE).

ACTION: Notice of regional workshops and request for written comments.

SUMMARY: Section 216(a)(1) of the Federal Power Act (FPA) requires the Department of Energy (Department or DOE) to complete a study of electric transmission congestion every three years. DOE issued its first “National Electric Transmission Congestion Study” (Congestion Study) in August 2006 and the second early in 2010. The Department is now initiating preparations for the 2012 Congestion Study, and seeks comments on what publicly-available data and information should be considered, and what types of analysis should be performed to identify and understand the significance and character of transmission congestion. DOE will host four regional pre-study workshops in early December 2011 to receive input and suggestions concerning the study. DOE expects to release a draft of the study in 2012 for a 60-day comment period. After reviewing and considering the comments received, DOE will publish a final version of the study. Interested persons may submit comments in response to this notice in the manner indicated in the ADDRESSES section.

DATES: See SUPPLEMENTARY INFORMATION section III. Pre-Study Workshops for workshop dates and locations. DOE recognizes that some commenters may wish to draw upon or direct us to studies or analyses that are now in process. DOE requests that commenters submit such materials as they become available, but no later than January 31, 2012.

ADDRESSES: You may submit written comments to http://energy.gov/oe/congestion-study-2012, or by mail to the Office of Electricity Delivery and Energy Reliability, OE-20, U.S. Department of Energy, 1000 Independence Avenue SW., Washington, DC 20585. The following electronic file formats are acceptable: Microsoft Word (.doc), Corel Word Perfect (.wpd), Adobe Acrobat (.pdf), Rich Text Format (.rtf), plain text (.txt), Microsoft Excel (.xls), and Microsoft PowerPoint (.ppt). The Department intends to use only data that is publicly available for this study. Accordingly, please do not submit information that you believe is or should be protected from public disclosure. DOE is responsible for the final determination concerning disclosure or nondisclosure of information submitted to DOE and for treating it in accordance with the DOE's Freedom of Information regulations (10 CFR 1004.11). All comments received by DOE regarding the 2012 Congestion Study will be posted on http://energy.gov/oe/congestion-study-2012 for public review.

Note: Delivery of the U.S. Postal Service mail to DOE continues to be delayed by several weeks due to security screening. DOE therefore encourages those wishing to comment to submit their comments electronically by email. If comments are submitted by regular mail, the Department requests that they be accompanied by a CD or diskette containing electronic files of the submission.

FOR FURTHER INFORMATION CONTACT: David Meyer, DOE Office of Electricity Delivery and Energy Reliability, (202) 586-1411, david.meyer@hq.doe.gov.

SUPPLEMENTARY INFORMATION:

I. Background

The Energy Policy Act of 2005 (Pub. L. 109-58) (EPAct) added several new provisions to the Federal Power Act (16 U.S.C. 824p) (FPA), including FPA section 216. FPA section 216(a) requires the Secretary of Energy to conduct a study of electric transmission congestion within one year from the date of enactment of EPAct and every three years thereafter. The 2006 and 2009 Congestion Studies reviewed congestion nationwide except for the portion of Texas covered by the Electricity Reliability Council of Texas, to which FPA section 216 does not apply. The 2012 Congestion Study will be of a similar scope. FPA section 216(a) requires the congestion study be conducted in consultation with affected States. Also, in exercising its responsibilities under Section 216, DOE is required to consult regularly with the Federal Energy Regulatory Commission (FERC), any appropriate regional entity referred to in FPA section 215, i.e., the regional electric reliability organizations,¹ and Regional Transmission Organizations approved by FERC.

¹ The regional reliability organizations under FPA section 215 are the Florida Reliability Coordinating Council, the Midwest Reliability Organization, the Northeast Power Coordinating Council, Reliability First Corporation, SERC Reliability Corporation, the Southwest Power Pool, the Texas Regional Entity (TRE), and the Western Electricity Coordinating Council.

In preparing the 2009 Congestion Study, the Department gathered historical congestion data obtained from existing studies prepared by regional reliability councils, regional transmission organizations (RTOs) and independent system operators (ISOs), and regional planning groups. Unlike the 2006 Congestion Study, the Department did not conduct or support studies of projected congestion for the 2009 Congestion Study. The Department did, however, direct the first study of publicly available historic congestion data in the Eastern Interconnection. As part of the data gathering, the Department held six public Regional Workshops and one public Technical Conference. DOE issued the 2009 Congestion Study in 2010 and requested comments within 60 days.

The 2009 Congestion Study reviewed congestion areas from the 2006 Congestion Study. The two “Critical Congestion Areas” (i.e., areas where the current and/or projected effects of congestion are especially broad and severe) identified in 2006 were still determined to be areas of critical congestion: The Atlantic coastal area from metropolitan New York through northern Virginia (the Mid-Atlantic Critical Congestion Area), and southern California (the Southern California Critical Congestion Area). Two of the “Congestion Areas of Concern” (i.e., areas where a large-scale congestion problem exists or may be emerging but more information and analysis appear to be needed to determine the magnitude of the problem) identified in 2006 also remain areas of concern: The San Francisco Peninsula and the Seattle-Portland area. Two Congested Areas of Concern areas, New England and the Phoenix-Tucson areas, were found to have alleviated or made significant progress on alleviating congestion; therefore, the 2009 Congestion Study did not identify these areas as Congestion Areas of Concern. The 2009 Congestion Study identified Conditional Constraint Areas focused on areas of potential renewable generation to satisfy requirements of the American Reinvestment and Recovery Act. Conditional Constraint Areas were identified in a large area of the Western and Eastern Interconnections that could support wind (Midwest), solar (Southwest) and geothermal (Nevada-Oregon-Idaho-Utah) generation, and areas pertaining to off-shore wind on both the east and west coasts, the Gulf of Mexico and on the Great Lakes.

II. Plan for the 2012 Congestion Study

The 2012 study will draw upon many of the same kinds of data, analyses and information as the earlier studies, with some additions. These sources may include, but are not limited to:

○ Electricity market analyses, including locational marginal price (LMP) patterns.

○ Reliability analyses and actions, including transmission loading relief (TLR) actions.

○ Historic energy flows.

○ Current and projected electric supply and generation plans.

○ Recent, current and planned transmission and interconnection queues.

○ Current and forecast electricity loads, including energy efficiency, distributed generation (DG) and demand response (DR) plans and policies.

○ The location of renewable resources and state and regional policies with respect to renewable development.

○ Projected impacts of current or pending environmental regulation on generation availability.

○ Effects of recent or projected economic conditions on demand and congestion.

○ Analytic results from the eastern and western interconnection-level planning studies undertaken with DOE support.

○ Filings under FERC Order 890.

DOE intends to release a draft version of the 2012 Congestion Study in 2012 for a 60-day comment period. After reviewing and considering the comments received, DOE will issue a final version of the study.

III. Pre-Study Workshops

In December 2011, DOE will host four regional half-day pre-study workshops to receive and discuss input relevant to the 2012 Congestion Study, including comments on what publicly-available data should be considered to identify and understand the significance and character of transmission congestion. Each workshop will consist of panels of invited speakers who will present their views, followed by a discussion among the panelists led by DOE staff. Each workshop will begin at 9 a.m. and end by 12:30 p.m.

Workshops: The cities, dates, and locations for the technical workshops are:

1. Philadelphia, PA, December 6, 2011, at the Philadelphia Airport Hilton, 4509 Island Avenue, Philadelphia, PA 19153.

2. St. Louis, MO, December 8, 2011, at the St. Louis Airport Hilton, 10330 Natural Bridge Road, St. Louis, MO 63134.

3. Portland, OR, December 13, 2011, at the Sheraton Portland Airport Hotel, 8235 Northeast Airport Way, Portland, OR 97220.

4. San Diego, CA, December 15, 2011, at the Sheraton San Diego Hotel & Marina, 1380 Harbor Island Drive, San Diego, CA 92101.

Additional details about the workshops are available at http://energy.gov/oe/congestion-study-2012.

Public Participation: The workshops will be open to the public, and will be simulcast over the Internet. Advance registration for the Webcasts is required by visiting http://www.iian.ibeam.com/events/ener001/26552/. A complete archive of each event will be on this Web site soon after the conclusion of the event, and will be downloadable in podcast format.

Members of the public interested in offering oral comments at a pre-study workshop may do so on the day of the workshop, subject to the time available. Approximately one-half hour will be reserved for public comments. Time allotted per speaker will depend on the number who wish to speak but is not expected to exceed three minutes. Anyone who is not able to attend the workshop or has had insufficient time to present material is invited to submit a written statement in the manner indicated in the ADDRESSES section of this notice.

Note: The Department will consult with the States and regional reliability organizations in the preparation of the 2012 Congestion Study. DOE recognizes that in addition to (or as an alternative to) participating in the regional pre-study workshops, some States or other organizations may wish to discuss congestion matters with the Department on a bilateral basis. DOE will reserve time at the sites of the regional workshops for such bilateral discussions, and it invites interested States or other organizations to contact the Department to identify mutually convenient times. In addition, the Department will maintain an “open door” policy, and will schedule congestion meetings at DOE headquarters upon request with States, reliability organizations, Regional Transmission Organizations, Independent System Operators, utilities, and other stakeholders.

IV. Comments in Response to This Notice

All comments filed in response to today's notice should be marked “Re Preparation of the 2012 Congestion Study,” and sent to the Department in the manner indicated in the ADDRESSES section of this notice. In written comments in response to this notice and at the regional workshops, DOE requests States, utilities, regional transmission organizations (RTOs), independent system operators (ISOs), and other stakeholders to describe changes in their respective areas since 2009 that affect the location, duration, frequency, magnitude, and significance of transmission congestion, including related transmission constraints. Special attention should be given to the question of how to gauge the magnitude or significance of congestion using publicly available data, including FERC 890 filings. In addition, DOE is particularly interested in comments that speak to the most appropriate and effective methods for distinguishing between the effects of technical limits on line loadings and possible contractual limits on the use of those same lines.

Issued in Washington, DC, on November 4, 2011.
Patricia A. Hoffman,
Assistant Secretary, Office of Electricity Delivery and Energy Reliability.

[FR Doc. 2011-29189 Filed 11-9-11; 8:45 am]

BILLING CODE 6450-01-P